DEPARTMENT OF HEALTH AND HUMAN SERVICES

Administration for Community Living

Administration on Intellectual and Developmental Disabilities, President's Committee for People With Intellectual Disabilities Meeting

AGENCY: Administration for Community Living, HHS.

ACTION: Notice.

DATES: Monday, February 22, 2016 from 9:00 a.m. to 4:30 p.m.; and Tuesday, February 23, 2016 from 9:00 a.m. to 2:00 p.m.

These meetings will be open to the general public.

ADDRESSES: These meetings will be held in the U.S. Department of Health and Human Services/Hubert H. Humphrey Building located at 200 Independence Avenue SW., Conference Room 800, Washington, DC 20201.

Individuals who would like to participate via conference call may do so by dialing toll-free #: 888-469-0957, when prompted enter pass code: 8955387. Individuals whose full participation in the meeting will require special accommodations (e.g., sign language interpreting services, assistive listening devices, materials in alternative format such as large print or Braille) should notify Dr. MJ Karimi, PCPID Team Lead, via email at MJ.Karimie@acl.hhs.gov, or via telephone at 202-795-7374, no later than Tuesday, February 16, 2016. The PCPID will attempt to accommodate requests made after this date, but cannot guarantee the ability to grant requests received after the deadline. All meeting sites are barrier free, consistent with the Americans with Disabilities Act (ADA) and the Federal Advisory Committee Act (FACA).

FOR FURTHER INFORMATION CONTACT: For further information, please contact Dr. MJ Karimi, Team Lead, President's Committee for People with Intellectual Disabilities, 330 C Street SW., 1108 A, Washington, DC 20201. Telephone: 202-795-7374. Fax: 202-205-0402. Email: MJ.Karimie@acl.hhs.gov.

SUPPLEMENTARY INFORMATION: The PCPID acts in an advisory capacity to the President and the Secretary of Health and Human Services on a broad range of topics relating to programs, services and support for individuals with intellectual disabilities. The PCPID executive order stipulates that the Committee shall: (1) Provide such advice concerning intellectual disabilities as the President or the Secretary of Health and Human Services may request; and (2) provide advice to the President concerning the following for people with intellectual disabilities: (A) Expansion of educational opportunities; (B) promotion of homeownership; (C) assurance of workplace integration; (D) improvement of transportation options; (E) expansion of full access to community living; and (F) increasing access to assistive and universally designed technologies.

Agenda: The Committee Members will discuss preparation of the PCPID 2016 Report to the President, including its contents and format, and related data collection and analysis required to complete the writing of the Report in the following focus areas:

Family engagement early on in the process to support high expectations for students with disabilities.

Federal policies and enforcement strategies to end segregation in schools and other aspects of community living beyond graduation.

Transition as a critical area for pathways to higher education and career development.

Self-determination/Supported decision-making from early childhood throughout the individual's lifespan.

Dated: January 14, 2016.
Aaron Bishop,
Commissioner, Administration on Disabilities.

[FR Doc. 2016-01586 Filed 1-26-16; 8:45 am]

BILLING CODE 4154-01-P